RAILROAD RETIREMENT BOARD

Sunshine Act; Notice of Public Hearing

Notice is hereby given that the Railroad Retirement Board, acting through its appointed Hearing Examiner, will hold a hearing on December 6, 2010, at 9 a.m., in Room 6A in the Bryan Simpson United States Courthouse at 300 North Hogan Street, Jacksonville, Florida 32202. The hearing will held at the order of the Board for the purpose of taking evidence on the question of whether certain individuals who performed service for CSX Real Property, Inc. prior to January 1, 2007, are covered employees under the Railroad Retirement and the Railroad Unemployment Insurance Acts.

The entire hearing will be open to the public. The person to contact for more information is Karl Blank, Hearing Examiner, phone number (312) 751-4941, TDD (312) 751-4701.

Dated: November 3, 2010.
For the Board.
Beatrice Ezerski,
Secretary to the Board.

[FR Doc. 2010-28215 Filed 11-4-10; 11:15 am]

BILLING CODE 7905-01-P